ENVIRONMENTAL PROTECTION AGENCY

[FRL-6604-9]

Agency Information Collection Activities: Submission for OMB Review; Comment Request, Standards of Performance for New Stationary Sources Nonmetallic Minerals Processing Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS Subpart OOO, Standards of Performance for New Stationary Sources—Nonmetallic Mineral Processing, OMB Control Number 2060-0050 expiration date 6/30/00. The ICR describes the nature of the information collection and its expected burden and cost; where appropriate, it includes the actual data collection instrument.

DATES: Comments must be submitted on or before June 12, 2000.

FOR FURTHER INFORMATION CONTACT: For a copy of the ICR contact Sandy Farmer at EPA by phone at (202) 260-2740, by E-Mail at farmer.sandy@epamail.epa.gov or download off the Internet at http://www.epa.gov/icr and refer to EPA ICR No. 1084.06. For technical questions about the ICR contact Greg Fried at EPA by phone at (202) 564-7016 or by Email at fried.gregory@epa.gov.

SUPPLEMENTARY INFORMATION: Title: NSPS Subpart OOO, Standards of Performance for New Stationary Sources, Nonmetallic Minerals Processing, OMB Control Number 2060-0050, EPA ICR No. 1084.06, expiration date 6/30/00. This is a request for extension of a currently approved collection.

Abstract: This standard applies to owners or operators of new, modified, or reconstructed facilities at nonmetallic mineral processing plants that commenced construction, modification, or reconstruction after August 1, 1985. Nonmetallic mineral processing includes the following affected facilities: each crusher, grinding mill, screening operation, bucket elevator, belt conveyor, bagging operation, storage bin, and enclosed truck or railcar loading station. Affected facilities in the plant process that are subject to 40 CFR part 60, subpart F for Portland Cement NSPS, or subpart I, Asphalt Concrete Plants NSPS, are not subject to this NSPS, subpart OOO.

Respondents must submit the following one-time-only reports: notification of the date of construction or reconstruction, notification of the actual date of initial startup, notification of any physical or operational change to an existing facility which may increase the regulated pollutant emission rate, notification of demonstration of the continuous emission monitor system (CMS) where the CMS is required (wet scrubber), notification of the date of the initial performance test, and the results of the initial performance test.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on October 29, 1999; no comments were received.

Burden Statement: The annual public reporting and recordkeeping burden for this collection of information on existing facilities is estimated to average 13 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Nonmetallic Mineral Processing Plants.

Estimated Number of Respondents: 4,305.

Frequency of Response: Initial.

Estimated Total Annual Hour Burden: 30,876 hours.

Estimated Total Annualized Capital, O&M Cost Burden: 0.

Send comments on the Agency's need for this information, the accuracy of the provided burden estimates, and any suggested methods for minimizing respondent burden, including through the use of automated collection techniques to the following addresses. Please refer to EPA ICR No.1084.06 and OMB Control No. 2060-0050 in any correspondence.

Ms. Sandy Farmer, U.S. Environmental Protection Agency, Office of Environmental Information, Collection Strategies Division (2822), 1200 Pennsylvania, Ave., NW, Washington, DC 20460;

and

Office of Information and Regulatory Affairs, Office of Management and Budget, Attention: Desk Officer for EPA, 725 17th Street, NW, Washington, DC 20503.

Dated: May 2, 2000.
Oscar Morales,
Director, Collection Strategies Division.

[FR Doc. 00-11815 Filed 5-10-00; 8:45 am]

BILLING CODE 6560-50-P